DEPARTMENT OF TRANSPORTATION

National Highway Traffic Safety Administration

[Docket No. NHTSA-2023-0004; Notice 1]

Michelin North America, Inc., Receipt of Petition for Decision of Inconsequential Noncompliance

AGENCY: National Highway Traffic Safety Administration (NHTSA), Department of Transportation (DOT).

ACTION: Receipt of petition.

SUMMARY: Michelin North America, Inc. (MNA) has determined that certain Michelin X Works D tires do not fully comply with Federal Motor Vehicle Safety Standard (FMVSS) No. 119, New Pneumatic Tires for Motor Vehicles with a GVWR of More Than 4,536 kilograms (10,000) pounds, Speciality Tires, and Tires for Motorcycles. MNA filed a noncompliance report dated December 16, 2022, and January 11, 2023, and subsequently petitioned NHTSA (the “Agency”) on January 10, 2023, for a decision that the subject noncompliance is inconsequential as it relates to motor vehicle safety. This document announces receipt of MNA's petition.

DATES: Send comments on or before April 29, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jayton Lindley, General Engineer, NHTSA, Office of Vehicle Safety Compliance, (325) 655-0547.

SUPPLEMENTARY INFORMATION:

I. Overview: MNA determined that certain Michelin X Works D tires do not fully comply with paragraph S6.5(d) of FMVSS No. 119, New Pneumatic Tires for Motor Vehicles with a GVWR of More Than 4,536 kilograms (10,000) pounds, Speciality Tires, and Tires for Motorcycles (49 CFR 571.119).

MNA filed a noncompliance report dated December 16, 2022, and amended the report on January 11, 2023, pursuant to 49 CFR part 573, Defect and Noncompliance Responsibility and Reports. MNA petitioned NHTSA on January 10, 2023, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of MNA's petition is published under 49 U.S.C. 30118 and 30120 and does not represent any agency decision or another exercise of judgment concerning the merits of the petition.

II. Tires Involved: Approximately 14,047 Michelin X Works D tires, manufactured between January 1, 2021, and September 14, 2022, were reported by the manufacturer.

III. Noncompliance: MNA explains that the noncompliance is that the maximum dual load in pounds is incorrectly marked on both sides of the tire and therefore does not comply with paragraph S6.5 (d) of FMVSS No. 119. Specifically, the tires state the maximum dual load as 5,590 pounds at 120 psi, when they should state 6,005 pounds at 120 psi.

IV. Rule Requirements: Paragraph S6.5(d) of FMVSS No. 119, includes the requirements relevant to this petition. Except as specified in paragraph S6.5, each tire must be marked on each sidewall with the information specified in paragraphs (a) through (j) of paragraph S6.5.

V. Summary of MNA's Petition: The following views and arguments presented in this section, “V. Summary of MNA's Petition,” are the views and arguments provided by MNA. They have not been evaluated by the Agency and do not reflect the views of the Agency. MNA describes the subject noncompliance and contends that the noncompliance is inconsequential as it relates to motor vehicle safety.

MNA explains that the subject noncompliance was detected during a review of markings for this tire line. MNA says that the mold drawings were corrected for future production upon detection of the subject noncompliance. MNA's investigation of the affected tires concluded that all tires produced with the marking error had entered the market.

First, MNA states that the subject tires were designed and manufactured in accordance with Tire and Rim Association standards, which specify a single max load of 3,000 kg (6,610 lbs) and a dual max load of 2,725 kg (6,005 lbs), both at an inflation pressure of 830 kPa (120 psi). Further, MNA asserts that the subject tires fully comply with all applicable FMVSS tire safety performance standards. MNA highlights that paragraph S7.2(a) of FMVSS No. 119 provides that endurance testing is conducted at the maximum single load value when the tire is marked with both single and dual maximum loads. MNA notes that the correct single load values in kilograms and pounds are marked on the tire. Further, MNA states that except for the max dual load marking in pounds on both sides of the tire, the affected tires correctly display all other required regulatory markings, including load range H corresponding to the designed maximum single load of 3,000 kilograms or 6,610 pounds, the maximum dual load of 2,725 kilograms, as well as the correct inflation pressure of 830 kPa or 120 psi.

MNA reiterates that the subject tires are properly marked with the maximum single and dual loads in kilograms, as well as the correct inflation pressure in kPa and psi. MNA explains that these markings provide both dealers and fleets with the necessary information to enable proper selection and application of the tires. MNA says that if a dealer or fleet were to follow the erroneous maximum dual load in pounds marked on the subject tires, the resulting tire loading would be 55 pounds below the designed maximum dual load of this tire.

MNA states that it has taken corrective measures in production and all tires currently being produced have the correct marking.

MNA refers to the following NHTSA petition decisions that it contends are similar to the subject noncompliance:

• Michelin North America, Inc., docket number NHTSA-2006-25891, granted 22 December 2006.

• Goodyear Tire and Rubber Company, docket number NHTSA-2005-21269, granted 18 July 2005.

MNA concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that MNA no longer controlled at the time it determined that the noncompliance existed. However, any decision on this petition does not relieve tire distributors and dealers of the prohibitions on the sale, offer for sale, or introduction or delivery for introduction into interstate commerce of the noncompliant tires under their control after MNA notified them that the subject noncompliance existed.

(Authority: 49 U.S.C. 30118, 30120: delegations of authority at 49 CFR 1.95 and 501.8)

Otto G. Matheke III,
Director, Office of Vehicle Safety Compliance.

[FR Doc. 2024-06670 Filed 3-28-24; 8:45 am]

BILLING CODE 4910-59-P